LIBRARY OF CONGRESS

Copyright Royalty Board

[Docket No. 16-CRB-0010-SD (2014-17)]

Distribution of Satellite Royalty Funds

AGENCY: Copyright Royalty Board, Library of Congress.

ACTION: Notice requesting comments.

SUMMARY: The Copyright Royalty Judges solicit comments on a motion of the Allocation Parties for further partial distribution of 2015-2017 satellite royalty funds.

DATES: Comments are due on or before January 12, 2023.

ADDRESSES: Interested claimants must submit timely comments using eCRB, the Copyright Royalty Board's online electronic filing application, at https://app.crb.gov/.

Instructions: All submissions must include a reference to the CRB and docket number 16-CRB-0010-SD (2014-17). All submissions will be posted without change to eCRB at https://app.crb.gov including any personal information provided.

Docket: For access to the docket to read submitted background documents or comments, go to eCRB, the Copyright Royalty Board's online electronic filing and case management system, at https://app.crb.gov and search for docket No. 16-CRB-0010-SD (2014-17).

FOR FURTHER INFORMATION CONTACT: Anita Brown, Program Specialist, 202-707-7658, crb@loc.gov.

SUPPLEMENTARY INFORMATION: Each year satellite television providers must submit royalty payments to the Register of Copyrights as required by the statutory license set forth in section 119 of the Copyright Act for the retransmission to satellite service subscribers of over-the-air television broadcast signals. See 17 U.S.C. 119(b). The Copyright Royalty Judges (Judges) oversee distribution of royalties to copyright owners whose works were included in a qualifying retransmission and who timely filed a claim for royalties.

Allocation of the royalties collected occurs in one of two ways. In the first instance, the Judges may authorize distribution in accordance with a negotiated settlement among all claiming parties. See id. at 119(b)(5)(B), (C). If all claimants do not reach agreement with respect to the royalties, the Judges must conduct a proceeding to determine the distribution of any royalties that remain in controversy. Id. at 119(b)(5)(B). Alternatively, the Judges may, on motion of claimants and on notice to all interested parties, authorize a partial distribution of royalties, reserving on deposit sufficient funds to resolve identified disputes. Id.; 17 U.S.C. 801(b)(3)(C).¹

¹ In authorizing a partial distribution under Section 801(b)(3)(C), the Judges must conclude that no claimant entitled to receive the requested funds has stated a reasonable objection to the partial distribution and all such claimants must (1) agree to the partial distribution, (2) sign an agreement obligating them to return any excess amounts to the extent necessary to comply with the final determination on the distribution of the fees under section 801(b)(3)(B); file the agreement with the Judges; and agree that such funds are available for distribution. 17 U.S.C. 801(b)(3)(C).

On August 17, 2022, representatives of all the Allocation Phase claimant categories ² filed with the Judges a motion requesting a partial distribution amounting to 90% of the 2015, 2016, and 2017 satellite royalty funds pursuant to section 801(b)(3)(C) of the Copyright Act. 17 U.S.C. 801(b)(3)(C). Joint Motion for Further Distribution of 2015-17 Satellite Royalties (Motion) (eCRB No. 27154). That section requires that, before ruling on the motion, the Judges publish a notice in the Federal Register seeking responses to the motion for partial distribution to ascertain whether any claimant entitled to receive the subject royalties has a reasonable objection to the requested distribution. Accordingly, this notice seeks comments from interested claimants on whether any reasonable objection exists that would preclude the distribution of 90% of the 2015, 2016, and 2017 satellite royalty funds to the Allocation Phase Claimants.

² The parties to the Motion, are participants self-identifying as “Allocation Phase Parties” in the 2014-17 satellite royalty distribution: Commercial Television Claimants; Settling Devotional Claimants; Joint Sports Claimants; Music Claimants comprising American Society of Composers, Authors and Publishers, Broadcast Music, Inc., and SESAC Performing Rights, LLC; and Program Suppliers.

Parties objecting to the proposed partial distribution must advise the Judges of the existence and extent of all their objections by the end of the comment period. The Judges will not consider any objections with respect to the partial distribution motion that come to their attention after the close of the comment period.

The Motion is available for review in eCRB, the CRB'S electronic filing site, at https://app.crb.gov.

Dated: December 7, 2022.
David P. Shaw,
Chief Copyright Royalty Judge.

[FR Doc. 2022-26952 Filed 12-12-22; 8:45 am]

BILLING CODE 1410-72-P